DEPARTMENT OF HEALTH AND HUMAN SERVICES

Centers for Medicare & Medicaid Services

42 CFR Part 413

[CMS-1628-CN]

RIN 0938-AS48

Medicare Program; End-Stage Renal Disease Prospective Payment System; Correction

AGENCY: Centers for Medicare & Medicaid Services (CMS), HHS.

ACTION: Correction.

SUMMARY: This document corrects a technical error that appeared in the proposed rule published in the Federal Register on July 1, 2015, entitled “Medicare Program; End-Stage Renal Disease Prospective Payment System, and Quality Incentive Program.”

DATES: This correction is effective on September 2, 2015.

FOR FURTHER INFORMATION CONTACT: Michelle Cruse, (410) 786-7540.

SUPPLEMENTARY INFORMATION:

I. Background

In FR Doc. 2015-16074 of July 1, 2015 (80 FR 37808) there was a technical error that is discussed in the “Summary of Errors,” and further identified and corrected in the “Correction of Errors” section below. The provisions in this correction document are effective as if they had been included in the document published on July 1, 2015. Accordingly, the corrections are effective September 2, 2015.

II. Summary of Errors

On page 37814 of the preamble, we discovered an error in the reference to the cost report column from which we derived the data for one of the dependent variables used in developing the two-equation regression methodology that we performed to analyze and propose revisions to the End-Stage Renal Disease (ESRD) Prospective Payment System (PPS) payment adjusters for Calendar Year (CY) 2016 ESRD PPS proposed rule. Specifically, we measured resource use of the maintenance dialysis services included in the current bundle of composite rate services using only ESRD facility data obtained from the Medicare cost reports for independent ESRD facilities and hospital-based ESRD facilities. We indicated in the proposed rule that for independent ESRD facilities, the average composite rate cost per treatment for each ESRD facility was calculated by dividing the total reported allowable costs for composite rate services for cost reporting periods ending in CYs 2012 and 2013 (Worksheet B, column 13A, lines 8-17 on CMS-265-11; Worksheet I-2, column 11, lines 2-11 on CMS-2552-10) by the total number of dialysis treatments (Worksheet C, column 1, lines 8-17 on CMS 265-11). In the CY 2016 ESRD PPS proposed rule, we incorrectly referred to column 13A when we intended to refer to column 11A in Worksheet B. Therefore, we are publishing this correction notice to include the appropriate location for the average composite rate cost per treatment.

III. Waiver of 60-Day Comment Period

We ordinarily permit a 60-day comment period on notices of proposed rulemaking in the Federal Register, as provided in section 1871(b)(1) of the Act. However, this period may be shortened, as provided under section 1871(b)(2)(C) of the Act, when the Secretary finds good cause that a 60-day comment period would be impracticable, unnecessary, or contrary to the public interest, and incorporates a statement of the finding and its reasons in the rule issued. Because the correction in this document does not make any changes to the substantive policies proposed in the CY 2016 ESRD PPS proposed rule, but merely corrects the reference to a column in the preamble of the proposed rule, this correcting document does not constitute agency rulemaking and therefore, the 60-day comment period does not apply.

In addition, we believe it is important for the public to have the corrected information as soon as possible and find no reason to delay dissemination of it.

For the reasons stated previously, we find it both unnecessary and contrary to the public interest to undertake further notice and comment procedures with respect to this correcting document.

IV. Correction of Errors

In FR Doc. 2015-16074 of July 1, 2015 (80 FR 37808), make the following corrections:

1. On page 37814, second column, second full paragraph, in line 16, the reference to “13A” is corrected to read “11A”.

Dated: August 27, 2015.
Madhura Valverde,
Executive Secretary to the Department, Department of Health and Human Services.

[FR Doc. 2015-21783 Filed 9-1-15; 8:45 am]

BILLING CODE 4120-01-P